DEPARTMENT OF COMMERCE

International Trade Administration

[C-570-923]

Raw Flexible Magnets from the People's Republic of China: Postponement of Preliminary Determination in the Countervailing Duty Investigation

AGENCY: Import Administration, International Trade Administration, Department of Commerce.

EFFECTIVE DATE: December 3, 2007.

FOR FURTHER INFORMATION CONTACT: Preeti Tolani, AD/CVD Operations, Office 3, Import Administration, International Trade Administration, U.S. Department of Commerce, 14th Street and Constitution Avenue, N.W., Washington, D.C. 20230; telephone (202) 482-0395.

SUPPLEMENTARY INFORMATION:

Background

On October 11, 2007, the Department of Commerce (“the Department”) initiated the countervailing duty investigation of raw flexible magnets from the People's Republic of China (PRC). See Notice of Initiation of Antidumping Duty Investigations: Raw Flexible Magnets from the People's Republic of China and Taiwan, 72 FR 59076 (October 18, 2007). On November 8, 2007, Magnum Magnetics Corporation, petitioner, requested a 65-day extension of the preliminary determination, pursuant to section 703(c)(1)(A) of the Tariff Act of 1930, as amended, (the Act) and 19 CFR 351.205(e). Currently, the preliminary determination is due no later than December 15, 2007.

Postponement of Due Date for Preliminary Determination

Under section 703(c)(1)(A) of the Act and 19 CFR 351.205(e), the Department may extend the period for reaching a preliminary determination in a countervailing duty investigation until not later than the 130th day after the date on which the administering authority initiates an investigation if the administrating authority receives such a request from petitioner 25 days or more before the scheduled date of the preliminary determination. Petitioner's request for postponement of the preliminary determination was received on November 8, 2007 and, therefore, is timely pursuant to 19 CFR 351.205(e). Accordingly, we are postponing the due date for this preliminary determination by 65 days to no later than Tuesday, February 19, 2008.

This notice is issued and published pursuant to section 703(c)(2) of the Act.

Dated: November 26, 2007.
David M. Spooner,
Assistant Secretary for Import Administration.

[FR Doc. E7-23391 Filed 11-30-07; 8:45 am]

BILLING CODE 3510-DS-S